GENERAL SERVICES ADMINISTRATION

[OMB Control No. 3090-0293; Docket No. 2017-0001; Sequence 9]

Information Collection; Reporting and Use of Information Concerning Integrity and Performance of Recipients of Grants and Cooperative Agreements

AGENCY: Office of Technology Strategy/Office of Government-wide Policy, General Services Administration (GSA).

ACTION: Notice of request for public comments regarding an extension to an existing OMB clearance.

SUMMARY: Under the provisions of the Paperwork Reduction Act, the Regulatory Secretariat Division (MVCB) will be submitting to the Office of Management and Budget (OMB) a request to review and approve an extension of the currently approved information collection requirement concerning the reporting and use of information concerning integrity and performance of recipients of grants and cooperative agreements.

DATES: Submit comments on or before February 2, 2018.

ADDRESSES: Submit comments identified by Information Collection 3090-0293, Reporting and Use of Information Concerning Integrity and Performance of Recipients of Grants and Cooperative Agreements by any of the following methods:

• Regulations.gov: http://www.regulations.gov. Submit comments via the Federal eRulemaking portal by searching the OMB control number 3090-0293. Select the link “Comment Now” that corresponds with “Information Collection 3090-0293, Reporting and Use of Information Concerning Integrity and Performance of Recipients of Grants and Cooperative Agreements. Follow the instructions provided on the screen. Please include your name, company name (if any), and “Information Collection 3090-0293, Reporting and Use of Information Concerning Integrity and Performance of Recipients of Grants and Cooperative Agreements” on your attached document.

• Mail: General Services Administration, Regulatory Secretariat Division (MVCB), 1800 F Street NW., Washington, DC 20405. ATTN: Ms. Mandell/IC 3090-0293.

Instructions: Please submit comments only and cite Information Collection 3090-0293, Reporting and Use of Information Concerning Integrity and Performance of Recipients of Grants and Cooperative Agreements, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Vicky Niblett, Deputy Assistant Commissioner, Integrated Award Environment, GSA, 202-394-7572 or vicky.niblett@gsa.gov.

SUPPLEMENTARY INFORMATION:

A. Purpose

This information collection requirement, OMB Control No. 3090-0293, currently titled “Reporting and Use of Information Concerning Integrity and Performance of Recipients of Grants and Cooperative Agreements” is necessary in order to comply with section 872 of the Duncan Hunter National Defense Authorization Act of 2009, Public Law 110-417, as amended by Public Law 111-212, hereafter referred to as “the Act.” The Duncan Hunter National Defense Authorization Act of 2009 (Pub. L. 110-417) was enacted on October 14, 2008. Section 872 of this Act required the development and maintenance of an information system that contains specific information on the integrity and performance of covered Federal agency contractors and grantees.

The Federal Awardee Performance and Integrity Information System (FAPIIS) was developed to address these requirements. FAPIIS provides users access to integrity and performance information from the FAPIIS reporting module in the Contractor Performance Assessment Reporting System (CPARS), proceedings information from the Entity Management section of the System for Award Management (SAM) database, and suspension/debarment information from the Performance Information section of SAM.

As stated in 2 CFR 200, Uniform Administrative Requirements, Cost Principles, and Audit Requirements for Federal Awards, the Federal awarding agency is required to review information available through any OMB-designated repositories of government-wide eligibility qualification or financial integrity information, as appropriate.

The Federal awarding agency is required to review the non-public segment of the OMB-designated integrity and performance system accessible through SAM (currently the FAPIIS), prior to making a Federal award where the Federal share is expected to exceed the simplified acquisition threshold (currently $150,000), defined in 41 U.S.C. 134, over the period of performance.

For non-federal entities (NFEs), if the total value of the NFEs currently active grants, cooperative agreements, and procurement contracts from all Federal awarding agencies exceeds $10,000,000 for any period of time during the period of performance of the Federal award, then the NFE must disclose semiannually, and maintain the currency of information reported to the SAM that is made available in the designated integrity and performance system (currently the FAPIIS) about civil, criminal, or administrative proceedings, as described in the award terms and conditions, for the most recent five year period.

B. Annual Reporting Burden

Proceedings Screening Question #1

Respondents: 13,683.

Respnoses per Respondent: 1.

Total Annual Responses: 13,683.

Hours per Response: .1.

Total Response Burden Hours: 1,368.

Proceedings Screening Question #2

Respondents: 1,663.

Responsed per Respondent: 1.

Total Annual Responses: 1,663.

Hours per Response: .1.

Total Response Burden Hours: 166.

Proceedings Details

Respondents: 24.

Responses per Respondent: 2.

Total Annual Responses: 48.

Hours per Response: .5.

Total Response Burden Hours: 24.

C. Public Comments

Public comments are particularly invited on: Whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405. Please cite OMB Control No. 3090-0293, Reporting and Use of Information Concerning Integrity and Performance of Recipients of Grants and Cooperative Agreements, in all correspondence.

Dated: November 16, 2017.
David A. Shive,
Chief Information Officer.

[FR Doc. 2017-25957 Filed 12-1-17; 8:45 am]

BILLING CODE 6820-WY-P